DEPARTMENT OF THE INTERIOR

Bureau of Land Management

[WY 050-07-1610-DO]

Notice of Intent To Prepare a Resource Management Plan Revision and Associated Environmental Impact Statement, for the Lander Field Office, Wyoming

AGENCY: Bureau of Land Management, Interior.

ACTION: Notice of Intent.

SUMMARY: The Bureau of Land Management (BLM) Lander Field Office, Wyoming intends to prepare a Resource Management Plan revision with an associated Environmental Impact Statement (RMP\EIS) for the Lander Field Office planning area and by this notice is announcing public scoping meetings. The RMP will replace the existing Lander RMP.

DATES: This notice initiates the public scoping process. Comments and resource information should be submitted to the BLM within 60 days of publication of this notice in the Federal Register. The BLM will announce public scoping meetings to identify relevant issues through local news media, newsletters, and the BLM Web site (http://www.wy.blm.gov/lfo/lfoplan.htm) at least 15 days prior to the first meeting.

ADDRESSES: You may submit comments by any of the following methods:

• Web site: http://www.wy.blm.gov/lfo/lfoplan.htm.

• E-mail: lrmp_wymail@blm.gov.

• Fax: 307-332-8444.

• Mail: Bureau of Land Management, Lander Field Office, P.O. Box 589, Lander, WY 82520.

Documents pertinent to this proposal may be examined at the Lander Field Office. Respondents' comments, including names and street addresses, will be available for public review at the Lander Field Office during regular business hours 7:45 a.m.-4:30 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For further information and/or to have your name added to our mailing list, contact Carol-Anne Murray, Lander Field Office, at 307-332-8448 or by e-mail to lrmp_wymail@blm.gov.

SUPPLEMENTARY INFORMATION: The planning area is located in Fremont, Natrona, Sweetwater, Carbon, and Hot Springs Counties, Wyoming. This planning activity encompasses approximately 2.5 million surface acres of BLM-administered public lands and 2.7 million acres of subsurface mineral estate. The plan will fulfill the needs and obligations set forth by the National Environmental Policy Act, the Federal Land Policy and Management Act, and BLM management policies. The BLM will work collaboratively with interested parties to identify the management decisions that are best suited to local, regional, and national needs and concerns.

The purpose of the public scoping process is to determine relevant issues that will influence the scope of the environmental analysis and EIS alternatives. These issues will also guide the planning process. You may submit comments on issues and planning criteria in writing to the BLM at any public scoping meeting, or you may submit them to the BLM using one of the methods listed under ADDRESSES above.

To be most helpful, you should submit formal scoping comments within 30 days after the last public meeting.

Preliminary issues and management concerns have been identified by BLM personnel, other agencies, and in meetings with individuals and user groups. They represent the BLM's knowledge to date regarding the existing issues and concerns with current land management. The EIS will describe and analyze a range of alternatives, comprised of the No Action alternative (continued management) and a number of action alternatives, each of which will describe options for addressing the major issues. The major issue themes that will be addressed in the plan effort include:

• Energy and minerals management;

• Management of riparian areas and water quality concerns;

• Livestock grazing management;

• Recreation/visitor use and safety management;

• Travel management, including Off Highway Vehicles;

• Management of wildlife habitat including protection of sensitive species habitat;

• Land tenure adjustments, realty leases, and utility corridor right-of-ways;

• Management of areas with special values; and,

• Management and protection of public land resources while allowing for multiple uses.

At this time, there are no areas identified during preplanning for consideration as new Areas of Critical Environmental Concern.

After gathering public comments on what issues the plan should address, the suggested issues will be placed in one of four categories:

1. Issues to be resolved in the plan;

2. Issues resolved through policy or administrative action;

3. Issues beyond the scope of this plan; or

4. Issues that have already been addressed but should be better communicated to the issue holder.

Rationale will be provided in the plan for each issue placed in category two, three, or four. In addition to these major issues, a number of management questions and concerns will be addressed in the plan. The public is encouraged to help identify these questions and concerns during the scoping phase. An interdisciplinary approach will be used to develop the plan in order to consider the variety of resource issues and concerns identified. Disciplines involved in the planning process will include specialists with expertise in rangeland management, minerals and geology, wildland fire and fuels management, outdoor recreation, archaeology, paleontology, wildlife, fisheries, lands and realty, soils, water and air, wild horses, environmental justice, and sociology and economics.

The following planning criteria have been proposed to guide development of the plan, avoid unnecessary data collection and analyses, and to ensure the plan is tailored to the issues. Other criteria may be identified during the public scoping process. After gathering comments on planning criteria, the BLM will finalize the criteria and provide feedback to the public on the criteria to be used throughout the planning process. Some of the planning criteria that are under consideration include:

• The plan will be completed in compliance with the Federal Land Policy and Management Act (43 U.S.C. 1701 et seq.) and the National Environmental Policy Act;

• The plan will recognize valid existing rights;

• Public participation will be encouraged throughout the process by collaborating and building relationships with tribes, state and local governments, Federal agencies, local stakeholders, and others with interest in the plan. Collaborators are regularly informed and offered timely and meaningful opportunities to participate in the planning process.

Dated: December 8, 2006.
Robert A. Bennett,
State Director, Wyoming.

[FR Doc. E7-2421 Filed 2-12-07; 8:45 am]

BILLING CODE 4310-22-P